DEPARTMENT OF AGRICULTURE

Agricultural Marketing Service

[Doc. No. AMS-CP-22-0009]

Local Food for Schools Cooperative Agreement Program

AGENCY: Agricultural Marketing Service, USDA.

ACTION: Notice of request for emergency approval of a new information collection.

SUMMARY: In accordance with the Paperwork Reduction Act of 1995, this notice announces the Agricultural Marketing Service's (AMS) intention to seek emergency approval from the Office of Management and Budget (OMB) for a new information collection to administer the Local Food for Schools Cooperative Agreement Program. AMS is implementing a new cooperative agreement program under the authority of the Commodity Credit Corporation Charter Act by entering into cooperative agreements with States to purchase food for schools from small businesses, local and regional farmers/producers (within the state or within 400 miles), and socially disadvantaged farmers/producers.

DATES: Submit comments on or before April 18, 2022.

ADDRESSES: Interested persons are invited to submit comments concerning this notice by using the electronic process available at www.regulations.gov. Written comments may also be submitted to the Commodity Procurement Program; AMS; USDA; 1400 Independence Avenue SW, Room 2517-South Building, Stop 0239; Washington, DC 20250-0239. All comments should reference the document number and the date and page number of this issue of the Federal Register. All comments submitted in response to this notice will be posted without change, including any personal information provided, at www.regulations.gov and will be included in the record and made available to the public. All comments received will also be available for public inspection during regular business hours at the address above.

FOR FURTHER INFORMATION CONTACT: David Munford, Contract Specialist, Commodity Procurement Program; telephone: (202) 937-4920, email: David.Munford@usda.gov.

SUPPLEMENTARY INFORMATION:

Overview of This Information Collection

Agency: USDA, AMS.

Title: Local Food for Schools Cooperative Agreement Program (LFS).

OMB Number: 0581-NEW.

Type of Request: Emergency Approval of a New Information Collection.

Abstract: The Agricultural Marketing Act of 1946 (7 U.S.C. 1621 et. seq.), as amended, directs and authorizes USDA to administer Federal cooperative agreements programs. AMS cooperative agreement programs are administered according to the OMB Guidance for Grants and Cooperative Agreements under the Uniform Administrative Requirements, Cost Principles, and Audit Requirements for Federal Awards (2 CFR part 200) (85 FR 49506; December 13, 2020). The information collection requirements in this emergency request are needed for AMS to administer a new noncompetitive cooperative agreement program, in accordance with section 5(c) of the Commodity Credit Corporation Charter Act (15 U.S.C. 714c(c)), for the purchase of local foods for distribution to schools.

Because the LFS is a voluntary program, respondents request or apply for this specific non-competitive cooperative agreement, and in doing so, they provide information. The information collected is used only by authorized representatives of USDA, AMS, Commodity Procurement Program to certify that cooperative agreement participants are complying with applicable program regulations, and the data collected is the minimum information necessary to effectively carry out the program requirements.

The information collection requirements in this request are essential to carry out the intent of the Act, to provide the respondents the type of service they request, and to administer the program.

Estimate of Burden: Public reporting burden for this collection of information is estimated to average 2.5 hours.

Respondents: Cooperative Agreement applicants; or Cooperative Agreement recipients.

Estimated Number of Respondents: 50.

Estimated Total Annual Responses including Recordkeeping: 650.

Estimated Number of Responses per Respondent: 2.5.

Estimated Total Annual Burden on Respondents and Recordkeepers: 3,154 hours.

Comments are invited on: (1) Whether the proposed collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

Obtaining OMB's approval of this new information collection enables AMS to publish a Request for Applications (RFA) to establish application requirements, the review and approval process, and cooperative agreement administration procedures. This will enable eligible entities to develop appropriate cooperative agreement applications for the program so that AMS can adequately evaluate these new proposals and obligate the funds as required by the Act.

All responses to this notice will be summarized and included in the request for OMB approval. All comments will become a matter of public record.

Erin Morris,
Associate Administrator, Agricultural Marketing Service.

[FR Doc. 2022-03345 Filed 2-15-22; 8:45 am]

BILLING CODE 3410-02-P